DEPARTMENT OF THE INTERIOR

National Park Service

[NPS-AKR-DENA-CAKR-ANIA-KOVA-LACL-WRST-GAAR-16085; PPAKAKROR4, PPMPRLE1Y.LS0000]

Meeting Notice; Denali National Park Subsistence Resource Commission, etc.

AGENCY: National Park Service, Interior.

ACTION: Meeting notice.

SUMMARY: As required by the Federal Advisory Committee Act (5 U.S.C. Appendix 1-16), the National Park Service (NPS) is hereby giving notice that the Denali National Park Subsistence Resource Commission (SRC), the Cape Krusenstern National Monument SRC, the Aniakchak National Monument SRC, the Kobuk Valley National Park SRC, the Lake Clark National Park SRC, the Wrangell-St. Elias National Park SRC, and the Gates of the Arctic National Park SRC will hold meetings to develop and continue work on NPS subsistence program recommendations and other related subsistence management issues. The NPS SRC program is authorized under Section 808 of the Alaska National Interest Lands Conservation Act (16 U.S.C. 3118), Title VIII.

Denali National Park SRC Meeting Date and Location: The Denali National Park SRC will meet from 9:00 a.m. to 5:00 p.m. or until business is completed on Thursday, August 7, 2014, at the Cantwell Community Library in Cantwell, AK. For more detailed information regarding this meeting, contact Designated Federal Official Donald Striker, Superintendent, at (907) 683-9531, or Amy Craver, Subsistence Manager, at (907) 683-9544, or Clarence Summers, Subsistence Manager, at (907) 644-3603. If you are interested in applying for Denali National Park SRC membership, contact the Superintendent at P.O. Box 9, Denali Park, AK 99755, or visit the park Web site: http://www.nps.gov/dena/contacts.htm or http://www.nps.gov/dena/parkmgmt/subsistence.htm.

Cape Krusenstern National Monument SRC Meeting Date and Location: The Cape Krusenstern National Monument SRC will meet from 9:00 a.m. to 5:00 p.m. or until business is completed on Wednesday, September 3, 2014, at the Northwest Arctic Heritage Center in Kotzebue, AK. Should a quorum not be available on September 3, 2014, the alternate scheduled meeting date is Wednesday, September 10, 2014, from 9:00 a.m. to 5:00 p.m. at the Northwest Arctic Heritage Center in Kotzebue, AK. For more detailed information regarding this meeting, contact Designated Federal Official Frank Hays, Superintendent, at (907) 442-3890, or Ken Adkisson, Subsistence Manager, at (907) 443-2522, or Clarence Summers, Subsistence Manager, at (907) 644-3603. If you are interested in applying for Cape Krusenstern National Monument SRC membership, contact the Superintendent at P.O. Box 1029, Kotzebue, AK 99752, or visit the park Web site: http://www.nps.gov/cakr/contacts.htm.

Aniakchak National Monument SRC Meeting Date and Location: The Aniakchak National Monument SRC will meet from 1:00 p.m. to 5:00 p.m. on Wednesday, September 3, 2014, and on Thursday, September 4, 2014, from 9:00 a.m.to 4:00 p.m. at the Port Heiden Community Hall in Port Heiden, AK. If SRC business is completed on Wednesday, September 3, 2014, the SRC will adjourn the meeting and not meet on Thursday, September 4, 2014. For more detailed information regarding this meeting, contact Designated Federal Official Diane Chung, Superintendent, or Troy Hamon, Resources Team Leader at (907) 246-3305, or Clarence Summers, Subsistence Manager, at (907) 644-3603. If you are interested in applying for Aniakchak National Monument SRC membership, contact the Superintendent at P.O. Box 7, King Salmon, AK 99613, or visit the park Web site: http://www.nps.gov/ania/contacts.htm.

Kobuk Valley National Park SRC Meeting Date and Location: The Kobuk Valley National Park SRC will meet from 9:00 a.m. to 5:00 p.m. or until business is completed on Thursday September 4, 2014, at the Northwest Arctic Heritage Center in Kotzebue, AK. Should a quorum not be available on September 4, 2014, the alternate scheduled meeting date is Thursday, September 11, 2014, from 9:00 a.m. to 5:00 p.m. at the Northwest Arctic Heritage Center in Kotzebue, AK. For more detailed information regarding this meeting, contact Designated Federal Official Frank Hays, Superintendent, at (907) 442-3890, or Ken Adkisson, Subsistence Manager, at (907) 443-2522, or Clarence Summers, Subsistence Manager, at (907) 644-3603. If you are interested in applying for Kobuk Valley National Park SRC membership, contact the Superintendent at P.O. Box 1029, Kotzebue, AK 99752, or visit the park Web site: http://www.nps.gov/kova/contacts.htm.

Lake Clark National Park SRC Meeting Date and Location: The Lake Clark National Park SRC will meet from 12:30 p.m. to 4:00 p.m. on Tuesday, September 23, 2014, at the Nondalton Community Building in Nondalton, AK. For more detailed information regarding this meeting, contact Designated Federal Official Margaret Goodro, Superintendent, at (907) 644-3626, or Mary McBurney, Subsistence Manager, at (907) 644-3640, or Clarence Summers, Subsistence Manager, at (907) 644-3603. If you are interested in applying for Lake Clark National Park SRC membership, contact the Superintendent at 240 W. 5th Avenue, Anchorage, AK 99501, or visit the park Web site: http://www.nps.gov/lacl/contacts.htm.

Wrangell-St. Elias National Park SRC Meeting Date and Location: The Wrangell-St. Elias National Park SRC will meet on Tuesday, October 7, 2014, and Wednesday, October 8, 2014, at the Ahtna Cultural Center in Cooper Center, AK. The SRC will meet from 9:00 a.m. to 5:00 p.m. until business is completed.

Teleconferencing is available upon request. Teleconference participants should contact Barbara Cellarius, Subsistence Manager, via email barbara_cellarius@nps.gov or telephone (907) 822-7236, by Thursday, October 2, 2014, to request call-in information. For more detailed information regarding this meeting, contact Designated Federal Official Rick Obernesser, Superintendent, at (907) 822-5234, or Barbara Cellarius, Subsistence Manager, at (907) 822-7236, or Clarence Summers, Subsistence Manager, at (907) 644-3603. If you are interested in applying for Wrangell-St. Elias National Park SRC membership, contact the Superintendent at P.O. Box 439, Copper Center, AK 99753, or visit the park Web site: http://www.nps.gov.wrst/contacts.htm.

Gates of the Arctic National Park SRC Meeting Date and Location: The Gates of the Arctic National Park SRC will meet from 9:00 a.m. to 5:00 p.m. on Wednesday, November 12, 2014, and Thursday, November 13, 2014, at the Sophie Station Hotel in Fairbanks, AK. For more detailed information regarding this meeting, contact Designated Federal Official Greg Dudgeon, Superintendent, or Marcy Okada, Subsistence Manager at (907) 457-5752, or Clarence Summers, Subsistence Manager, at (907) 644-3603. If you are interested in applying for Gates of the Arctic National Park SRC membership, contact the Superintendent at 4175 Geist Road, Fairbanks, AK 99709 or visit the park Web site: http://www.nps.gov/gaar/contacts.htm.

Proposed Meeting Agenda

The proposed meeting agenda for each meeting includes the following:

1. Call to Order—Confirm Quorum

2. Welcome and Introductions

3. Review and Adoption of Agenda

4. Approval of Minutes

5. Superintendent's Welcome and Review of the Commission Purpose

6. Commission Membership Status and Elections if Needed

7. SRC Chair and Members' Reports

8. Superintendent's Report

9. Old Business

10. New Business

11. Federal Subsistence Board Update

12. Alaska Boards of Fish and Game Update

13. National Park Service Reports

a. Ranger Update

b. Resource Management Update

c. Subsistence Manager's Report

14. Public and Other Agency Comments

15. Work Session

16. Set Tentative Date and Location for Next SRC Meeting

17. Adjourn Meeting

NPS subsistence managers may modify or develop a more detailed agenda for each agenda topic. SRC meeting locations and dates may change based on inclement weather or exceptional circumstances. If the meeting date or location is changed, the Superintendent will issue a press release and use local newspapers and radio stations to provide public notice of any meeting changes.

SUPPLEMENTARY INFORMATION: These meetings are open to the public and will have time allocated for public testimony. The public is welcome to present written or oral comments to the SRC. The meetings will be recorded and meeting minutes will be available upon request from the Park Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Individuals who are currently Federally registered lobbyists are ineligible to serve on all FACA and non-FACA boards, committees, or councils.

Dated: July 14, 2014.
Alma Ripps,
Chief, Office of Policy.

[FR Doc. 2014-17076 Filed 7-18-14; 8:45 am]

BILLING CODE 4310-EE-P